Title 3—

The President

Proclamation 10340 of February 18, 2022

National Eating Disorders Awareness Week, 2022

By the President of the United States of America

A Proclamation

National Eating Disorders Awareness Week provides an opportunity to draw attention to one of the most serious mental health conditions impacting the lives of Americans and their families today. Eating disorders—including binge-eating, bulimia nervosa, and anorexia nervosa—affect people of all backgrounds and genders. Nearly 1 in 10 Americans are expected to develop an eating disorder in their lifetime. In recent years, there has been a troubling surge in eating disorders among children, older adults, military service members, and transgender individuals. When undiagnosed or untreated, eating disorders can have serious—even fatal—consequences, which is why improving mental health services and support is so important.

The COVID-19 pandemic has been especially challenging for individuals with eating disorders. National eating disorder hotlines have seen a more than 70 percent spike in the volume of calls and chats since the pandemic started. Research shows that the number of hospitalizations for eating disorders has doubled during that same time period.

Despite the fact that eating disorders have among the highest mortality rate of any mental illness, the shame and stigmatization of eating disorders often prevent people who are suffering from seeking help. That is why it is important to make more people aware that, with early detection and medical intervention, full recovery from an eating disorder is possible.

My Administration is working to improve access to treatment, recovery, and social support for everyone currently living with an eating disorder as well as for their caregivers, families, and friends. Through the National Institute of Mental Health, we are working to develop better therapies and interventions. My Administration is also working to ensure that eating disorder care and treatment are treated the same as any other medical conditions by health insurance plans. Funding from the Substance Abuse and Mental Health Services Administration (SAMHSA) provides health care providers, families, caregivers, and community members the tools, training, and resources to recognize the symptoms of an eating disorder so that referrals to specialty providers and treatment can be provided as early as possible.

We are also working to increase access to mental health services and support for young people, who are uniquely vulnerable to eating disorders. The American Rescue Plan included $122 billion to help schools reopen safely, enabling them to support the mental health of their students. I have also called for doubling the number of school-based health counselors, social workers, and nurses. Together, these resources will be essential to addressing the mental health needs of our Nation's youth.

To all those families who have watched a loved one face an eating disorder and to all those who are currently facing or recovering from an eating disorder—you are in our hearts and you are not alone. It is within our power to reduce the burden of eating disorders on the lives of Americans and their families. As we work toward these improvements, immediate assistance is available for those in need of help. The SAMHSA National Helpline at 1-800-662-4357 is a confidential, free, 24-hour-a-day, 365-days-a-year information and referral service. For anyone experiencing a crisis, immediate help is also available by calling the National Suicide Prevention Lifeline at 1-800-273-TALK.

NOW, THEREFORE, I, JOSEPH R. BIDEN JR., President of the United States of America, by virtue of the authority vested in me by the Constitution and the laws of the United States, do hereby proclaim February 21 through February 27, 2022, as National Eating Disorders Awareness Week. I encourage citizens, government agencies, private businesses, nonprofit organizations, and other interested groups to join in activities that will increase awareness of what Americans can do to prevent eating disorders and improve access to care and other support services for those currently living with an eating disorder.

IN WITNESS WHEREOF, I have hereunto set my hand this eighteenth day of February, in the year of our Lord two thousand twenty-two, and of the Independence of the United States of America the two hundred and forty-sixth.

[FR Doc. 2022-04096

Filed 2-23-22; 11:15 am]

Billing code 3395-F2-P